DEPARTMENT OF HOMELAND SECURITY

[Docket No. DHS-2013-0044]

Committee name: Homeland Security Academic Advisory Council

AGENCY: Department of Homeland Security.

ACTION: Committee Management; Notice of Federal Advisory Committee Meeting.

SUMMARY: The Homeland Security Academic Advisory Council (HSAAC) will meet on July 17, 2013 in Washington, DC. The meeting will be open to the public.

DATES: The HSAAC will meet Wednesday, July 17, 2013, from 10:00 a.m. to 3:00 p.m. Please note that the meeting may close early if the committee has completed its business.

ADDRESSES: The meeting will be held at Ronald Reagan International Trade Center, 1300 Pennsylvania Avenue NW., Floor B, Room B1.5-10, Washington, DC 20004. All visitors to the Ronald Reagan International Trade Center must bring a Government-issued photo ID. Please use the main entrance on 14th Street, NW.

For information on facilities or services for individuals with disabilities or to request special assistance at the meeting, send an email to AcademicEngagement@hq.dhs.gov or contact Lindsay Burton at 202-447-4686 as soon as possible.

To facilitate public participation, we are inviting public comment on the issues to be considered by the committee prior to the adoption of the recommendations as listed in the SUPPLEMENTARY INFORMATION section below. Comments must be submitted in writing no later than Tuesday, July 9, 2013; must include DHS-2013-0044 as the identification number; and may be submitted using one of the following methods:

• Federal eRulemaking Portal: http://www.regulations.gov. Follow the instructions for submitting comments.

• Email: AcademicEngagement@hq.dhs.gov. Include the docket number in the subject line of the message.

• Fax: 202-447-3713

• Mail: Academic Engagement; MGMT/Office of Academic Engagement/Mailstop 0440; Department of Homeland Security; 245 Murray Lane SW; Washington, DC 20528-0440

Instructions: All submissions received must include the words “Department of Homeland Security” and the docket number for this action. Comments received will be posted without alteration at http://www.regulations.gov, including any personal information provided.

Docket: For access to the docket, to read background documents or comments received by the Homeland Security Academic Advisory Council, go to http://www.regulations.gov and search for “HSAAC” then select the notice dated July 1, 2013.

One thirty-minute public comment period will be held during the meeting on July 17, 2013 after the conclusion of the presentation of draft recommendations, but before the HSAAC deliberates. Speakers will be requested to limit their comments to three minutes. Contact the Office of Academic Engagement as indicated below to register as a speaker.

FOR FURTHER INFORMATION CONTACT: Lindsay Burton, Office of Academic Engagement/Mailstop 0440; Department of Homeland Security; 245 Murray Lane SW; Washington, DC 20528-0440, email: AcademicEngagement@hq.dhs.gov, tel: 202-447-4686 and fax: 202-447-3713.

SUPPLEMENTARY INFORMATION: Notice of this meeting is given under the Federal Advisory Committee Act, 5 U.S.C. App. (Pub. L. 92-463). The HSAAC provides advice and recommendations to the Secretary and senior leadership on matters relating to student and recent graduate recruitment; international students; academic research; campus and community resiliency, security and preparedness; faculty exchanges; and cybersecurity.

Agenda: The six HSAAC subcommittees (Student and Recent Graduate Recruitment, Homeland Security Academic Programs, Academic Research and Faculty Exchange, International Students, Campus Resilience, and Cybersecurity) will give progress reports. The HSAAC Subcommittee on Cybersecurity may present draft recommendations for action in response to the taskings issued by Secretary Napolitano, including: how to attract students, student veterans and recent graduates to cybersecurity jobs at DHS; how DHS can better promote the DHS/National Security Agency National Centers of Academic Excellence cybersecurity programs to the higher education community; how to define the core elements of cybersecurity degree and certificate programs to prepare graduates for mission-critical cyber jobs at DHS; how DHS can facilitate and strengthen strategic partnerships with industry, national labs, colleges, universities and others to build the cybersecurity workforce; how DHS can partner with academia to build a pipeline of diverse students in Science, Technology, Engineering and Math (STEM); and how key subcategories in cybersecurity—such as policy, critical infrastructure, human factors, intellectual property, and others—can inform academic pathways to meet national needs.

The meeting materials will be posted to the HSAAC Web site at: http://www.dhs.gov/homeland-security-academic-advisory-council-hsaac no later than July 15, 2013.

Responsible DHS Official: Lauren Kielsmeier, AcademicEngagement@hq.dhs.gov, 202-447-4686.

Dated: June 25, 2013.
Lauren Kielsmeier,
Executive Director for Academic Engagement.

[FR Doc. 2013-15656 Filed 6-28-13; 8:45 am]

BILLING CODE 9110-9B-P